DEPARTMENT OF TRANSPORTATION

Federal Aviation Administration

RTCA Special Committee 186: Automatic Dependent Surveillance—Broadcast (ADS-B)

AGENCY: Federal Aviation Administration (FAA), DOT.

ACTION: Notice of RTCA Special Committee 186 meeting.

SUMMARY: The FAA is issuing this notice to advise the public of a meeting of RTCA Special Committee 186: Automatic Dependent Surveillance—Broadcast (ADS-B).

DATES: The meeting will be held April 17-20, 2006 starting at 9 a.m. (unless stated otherwise).

ADDRESSES: The meeting will be held at MITRE/CAASD, 7515 Colshire Drive, McLean, VA 22102-7539.

FOR FURTHER INFORMATION CONTACT: RTCA Secretariat, 1828 L Street, NW., Suite 805, Washington, DC 20036; telephone (202) 833-9339; fax (202) 833-9434; Web site http://www.rtca.org. MITRE telephone (703) 983-6000. For map and directions: http://www.mitre.org/about/locations.html.

SUPPLEMENTARY INFORMATION: Pursuant to section 10(a)(2) of the Federal Advisory Committee Act (Pub. L. 92-463, 5 U.S.C., Appendix 2), notice is hereby given for a Special Committee 186 meeting.

Note: Specific working group sessions will be held on April 17, 18, 19.

• April 17:

• WG4 STP Subgroup MITRE 2 Room 2N103

• April 18:

• WG4 STP Subgroup MITRE 2 Room 2N103

• April 19:

• WG4 STP Subgroup MITRE 2 Room 2N105

• WG4 ASSAP Subgroup MITRE 1 Room 4H204

• WG-3—1090 MHz MOPS-MITRE 2 Room 0N136

Note: ASAS—Aircraft Surveillance Applications System

CDTI—Cockpit Display of Traffic Information

MOPS—Minimum Operational Performance Standards

STP—Surveillance Transmit Processing

• April 20:

• Opening Plenary Session (Chairman's Introductory Remarks, Review of Meeting Agenda, Review/Approval of Previous Meeting Summary, RTCA Paper No. 058-06/SC186-231 (currently in draft)

• ADS-B Program Review/Status

• Review/Approval—Change 1 to DO-260-Minimum Operational Performance Standards for 1090 MHz Automatic Dependent Surveillance—Broadcast (ADS-B)

• Review/Approval—Change 1 to DO-260A-Minimum Operational Performance Standards for 1090 MHz Automatic Dependent Surveillance—Broadcast (ADS-B) and Traffic Information Services (TIS-B)

RTCA Paper No. 059-06/SC186-232

March 16, 2006

Thirty-Sixth Meeting

SC-186

Automatic Dependent Surveillance—Broadcast (ADS-B)

Date: April 17-20, 2006.

Time: 9 a.m. (Unless Otherwise Noted).

Place: MITRE/CAASD, 7515 Colshire Drive McLean, VA 22102-7539, (703) 983-6000.

Map and Directions: http://www.mitre.org/about/locations.html.

Specific Sessions

Monday, April 17—WG4 STP Subgroup MITRE 2 Room 2N103

Tuesday, April 18—WG4 STP Subgroup MITRE 2 Room 2N103

Wednesday, April 19—WG4 STP Subgroup MITRE 2 Room 2N105; WG4 ASSAP Subgroup MITRE 1 Room 4H204; WG-3—1090 MHz MOPS—MITRE 2 Room 0N136.

Note: ASSAP—Aircraft Surveillance and Separation Assurance Processing System.

CDTI—Cockpit Display of Traffic Information.

MOPS—Minimum Operational Performance Standards.

STP—Surveillance Transmit Processing.

Thursday, April 20—Plenary Session—See Agenda Below—

Agendas—Plenary Session—Agenda

Thursday—April 20th, starting at 9 a.m. (MITRE 1 Auditorium)

1. Chairman's Introductory Remarks.

2. Review of Meeting Agenda.

3. Review/Approval of the Thirty Fifth Meeting Summary, RTCA Paper No. 058-06/SC186-231 (currently in draft).

4. Date, Place and Time of Next Meeting.

5. ADS-B Program Review/Status.

6. Review/Approval—Change 1 to DO-260—Minimum Operational Performance Standards for 1090 MHz Automatic Dependent Surveillance—Broadcast (ADS-B).

7. Review/Approval—Change 1 to DO-260A—Minimum Operational Performance Standards for 1090 MHz Automatic Dependent Surveillance—Broadcast (ADS-B) and Traffic Information Services (TIS-B).

8. WG4: STP MOPS progress.

10. New Business.

11. Other Business.

12. Review Actions Items/Work Program.

13. Adjourn.

• WG4: STP MOPS Review

• Requirement Focus Group—NRA Document Status

• Closing Plenary Session (New Business, Other Business, Review Action Items/Work Program, Date, Place and Time of Next Meeting, Other Business, Review Actions Items/Work Program, Adjourn)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, March 20, 2006.
Francisco Estrada C.,
RTCA Advisory Committee.

[FR Doc. 06-2914 Filed 3-24-06; 8:45 am]

BILLING CODE 4910-13-M